COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products and services previously furnished by such agencies.

Effective Date: June 26, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: Additions: On March 18, and April 1, 2005, the Committee for Purchase From People Who Are Blind or Severely Disabled published notice (70 FR 13166, and 16797) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, U.S. Geological Survey—Office of Acquisition & Grants, 12201 Sunrise Valley Drive, Reston, Virginia.

NPA: Davis Memorial Goodwill Industries, Washington, DC.

Contracting Activity: DOI-USGS Office of Acquisition and Grants, Reston, Virginia.

Service Type/Location: Document Destruction, USDA, Forest Service, 101 B Sun Avenue, NE, Albuquerque, New Mexico.

NPA: Adelante Development Center, Inc., Albuquerque, New Mexico.

Contracting Activity: USDA, Forest Service, Albuquerque, New Mexico.

Service Type/Location: Grounds Maintenance, Bureau of Engraving and Printing, 14th and C Streets, SW., Washington, DC.

NPA: Davis Memorial Goodwill Industries, Washington, DC.

Contracting Activity: Bureau of Engraving and Printing, Washington, DC.

Deletions: On April 1, 2005, the Committee for Purchase From People Who Are Blind or Severely Disabled published notice (70 FR 16797/98) of proposed deletions to the Procurement List. After consideration of the relevant matter presented, the Committee has determined that the product and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

Product: Pen, Executive, In-Puria Tri-Wood, Rollerball.

NSN: 7520-01-484-4576—Pen Executive, In-Puria Tri-Wood, Rollerball.

NPA: Tarrant County Association for the Blind, Fort Worth, Texas.

Contracting Activity: GSA/Office Supplies & Paper Products Acquisition Center New York, New York.

Services

Service Type/Location: Commissary Shelf Stocking, Cecil Field Naval Air Station, Jacksonville, Florida.

NPA: CCAR Services, Inc., Green Cove Springs, Florida.

Contracting Activity: Defense Commissary Agency, Fort Lee, Virginia.

Service Type/Location: Commissary Shelf Stocking & Custodial, Defense Supply Center Richmond, 8000 Jefferson Davis Highway, Richmond, Virginia.

NPA: Goodwill Services, Inc., Richmond, Virginia.

Contracting Activity: Defense Commissary Agency, Fort Lee, Virginia.

Service Type/Location: Commissary Shelf Stocking & Custodial, Fort McClellan, Alabama.

NPA: Alabama Goodwill Industries, Inc., Birmingham, Alabama.

Contracting Activity: Defense Commissary Agency, Fort Lee, Virginia.

Service Type/Location: Commissary Shelf Stocking & Custodial, Naval Training Center Complex, 2500 Leahy Avenue, Orlando, Florida.

NPA: None currently authorized.

Contracting Activity: Defense Commissary Agency, Fort Lee, Virginia.

Service Type/Location: Commissary Shelf Stocking & Custodial, Roosevelt Roads Naval Station, Cieba, Puerto Rico.

NPA: Brevard Achievement Center, Inc., Rockledge, Florida.

Contracting Activity: Defense Commissary Agency, Fort Lee, Virginia.

Service Type/Location: Janitorial/Custodial, Cecil Field Naval Air Station Commissary, Jacksonville, Florida.

NPA: CCAR Services, Inc., Green Cove Springs, Florida.

Contracting Activity: Defense Commissary Agency, Fort Lee, Virginia.

G. John Heyer,
General Counsel.

[FR Doc. 05-10648 Filed 5-26-05; 8:45 am]

BILLING CODE 6353-01-P